DEPARTMENT OF DEFENSE

Department of the Army

Draft Environmental Impact Statement (DEIS) for Enhanced Training and Operations at the National Guard Training Center (NGTC)—Fort Indiantown Gap (FTIG), PA

AGENCY: National Guard Bureau (NGB), Department of the Army, DoD.

ACTION: Notice of availability.

SUMMARY: The Pennsylvania Army National Guard (PAARNG) and the Pennsylvania Air National Guard (PaANG) have formulated long-range plans to ensure the continued and long-term viability of FTIG as a National Guard Training Center. In these plans, a total of 11 actions, comprised of 42 component projects, are proposed for the specific purposes and needs set forth in the DEIS. These proposed actions consist of the construction or improvement of the following projects: (1) Tracked Vehicle Training Complex, (2) Ammunition Supply Point Facility, (3) Artillery Training Support Facility, (4) Multi-Purpose Training Range Facility, (5) NGTC-FTIG Garrison Facility, (6) Wastewater Treatment Plant and Collection System, (7) Muir Army Airfield Complex, (8) Air Guard Station Facilities, (9) Air-to-Ground Range Control Compound, (10) Regional Equipment Operator Training School, and (11) the implementation of the Integrated Natural Resources Management Plan. Implementation of these actions and component projects, in concert with on-going operations, will provide the user of NGTC-FTIG with the facilities, training support, logistical support, and resources necessary to complete their military mission.

ADDRESSES: Written comments or materials should be forwarded to Captain Geoffrey Lincoln, NGTC-FTIG EIS Project Officer, NGTC-FTIG, Environmental Section, 1119 Utility Road, Annville, Pennsylvania 17003-5002; or Lieutenant Colonel Christopher Cleaver, NGTC-FTIG Public Affairs Officer (PAO), PADMVA Headquarters, Building 0-47, Annville, Pennsylvania 17003-5002.

FOR FURTHER INFORMATION CONTACT: Captain Lincoln at (717) 861-2548 or Lieutenant Colonel Cleaver at (717) 861-8468.

SUPPLEMENTARY INFORMATION: The mission of the 28th Infantry Division (Mechanized) is to be trained and equipped to join the active forces in time of war or national emergency; response to orders of the governor protecting lives and property during natural and man-made disasters; cleaning up the environment; fighting to eradicate the illicit flow of drugs; and serving as role models for future generations. Each of the proposed actions has been determined to be necessary to allow the PAARNG and PaANG to continue to utilize the training site to support on-going military and civilian missions. By implementing each of these actions, NGTC-FTIG will continue to provide training and support facilities necessary to ensue its long-term viability, sustainability, and value as a major NGB training site. A summary of impact analysis of previously completed Environmental Assessments are incorporated into the DEIS.

Two public comment meetings are anticipated to be held in the fall of 2001, with exact dates and locations to be determined and published in the local news media well in advance of the meeting. These meetings will be conducted in order to receive comments from the public on the DEIS.

Dated: October 24, 2001.
Raymond J. Fatz,
Deputy Assistant Secretary of the Army, (Environment, Safety and Occupational Health), OASA (I&E).

[FR Doc. 01-27353 Filed 10-31-01; 8:45 am]

BILLING CODE 3710-08-M